DEPARTMENT OF COMMERCE

National Oceanic and Atmospheric Administration

[I.D. 051503C]

Endangered Species; Permits

AGENCY: National Marine Fisheries Service (NMFS), National Oceanic and Atmospheric Administration, Commerce

ACTION: Issuance of Permit No:1417.

SUMMARY: Notice is hereby given of the following action regarding permits for takes of endangered and threatened species for the purposes of incidental take under the Endangered Species Act (ESA): NMFS has issued permit 1417 to Dr. Anne Rudloe Gulf Specimen Marine Laboratories, Inc.(GSML), Florida.

DATES: Effective May 15, 2003.

ADDRESSES: Requests for copies of the permit and environmental assessment should be addressed to the Chief, Endangered Species Division, Office of Protected Resources, NMFS, 1315 East-West Highway, Silver Spring, MD 20910.

FOR FURTHER INFORMATION CONTACT: Therese Conant (ph. 301-713-1401, fax 301-713-0376, e-mail Therese.Conant@noaa.gov), or Eric Hawk (ph. 727-570-5312, fax 727-570-5517, e-mail Eric.Hawk@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Background

NMFS published a notice of receipt and requested public comments on the GSML application for an incidental take permit on February 14, 2003 (68 FR 7505). No public comments were received.

Permit 1417 was issued on May 15, 2003, and will expire May 1, 2012. The permit will be reviewed and reauthorized on an annual basis. Permit 1417 authorizes the take of listed sea turtles incidental to otherwise lawful trawling activities in the Florida state waters of Gulf, Franklin and Wakulla Counties. Permit 1417 authorizes through May 1, 2012, an incidental take of up to a total of 3 sea turtles, all live, in any combination, of loggerhead, green, Kemp's ridley or leatherback sea turtles and up to 1 Gulf sturgeon, alive.

Dated: May 19, 2003.
David O'Brien,
Acting Chief, Endangered Species Division, Office of Protected Resources, National Marine Fisheries Service.

[FR Doc. 03-13157 Filed 5-23-03; 8:45 am]

BILLING CODE 3510-22-S